DEPARTMENT OF THE INTERIOR

National Park Service

[NPS-WASO-NAGPRA-22006; PPWOCRADN0-PCU00RP14.R50000]

Notice of Inventory Completion: University of Pennsylvania Museum of Archaeology and Anthropology, Philadelphia, PA

AGENCY: National Park Service, Interior.

ACTION: Notice.

SUMMARY: The University of Pennsylvania Museum of Archaeology and Anthropology has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the University of Pennsylvania Museum of Archaeology and Anthropology. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the University of Pennsylvania Museum of Archaeology and Anthropology at the address in this notice by November 2, 2016.

ADDRESSES: Dr. Julian Siggers, Director, University of Pennsylvania Museum of Archaeology and Anthropology, Philadelphia, PA 19104, telephone (215) 898-4050.

SUPPLEMENTARY INFORMATION: Notice is here given in accordance with the Native American Graves Protection and Repatriation Act (NAGPRA), 25 U.S.C. 3003, of the completion of an inventory of human remains under the control of the University of Pennsylvania Museum of Archaeology and Anthropology, Philadelphia, PA. The human remains were removed from unknown locations in Michigan.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the University of Pennsylvania Museum of Archaeology and Anthropology professional staff in consultation with representatives of the Citizen Potawatomi Nation, Oklahoma; Forest County Potawatomi Community, Wisconsin; Prairie Band of Potawatomi Nation (previously listed as Prairie Band of Potawatomi Nation, Kansas); Pokagon Band of Potawatomi Indians, Michigan and Indiana; and with the Michigan Anishinabek Cultural Preservation & Repatriation Alliance, a non-federally recognized entity, representing the following federally recognized tribes: Bay Mills Indian Community, Michigan; Grand Traverse Band of Ottawa and Chippewa Indians, Michigan; Hannahville Indian Community, Michigan; Keweenaw Bay Indian Community, Michigan; Lac Vieux Desert Band of Lake Superior Chippewa Indians of Michigan; Little River Band of Ottawa Indians, Michigan; Little Traverse Bay Bands of Odawa Indians, Michigan; Match-e-be-nash-she-wish Band of Pottawatomi Indians of Michigan; Nottawaseppi Huron Band of the Potawatomi, Michigan (previously listed as the Huron Potawatomi, Inc.); Saginaw Chippewa Indian Tribe of Michigan; and the Sault Ste. Marie Tribe of Chippewa Indians, Michigan.

History and Description of the Remains

At an unknown date prior to 1839, human remains representing, at minimum, one individuals (UPM#: 97-606-657) were obtained by Dr. Joseph Walker, of the United States Army, from an unknown location in Michigan while he was stationed there (Morton 1839: 186). Dr. Walker subsequently sent the remains to Dr. Samuel G. Morton for inclusion in his collection of human crania from around the world. The human remains are represented by a cranium and mandible) of a single male individual 30-40 years of age. The condition of the remains suggests they were not buried. No known individuals were identified. No associated funerary objects are present.

At an unknown date prior to 1840, human remains representing, at minimum, one individual (UPM#: 97-606-737) was obtained from an unknown site in Michigan by Col. John James Abert. The remains were subsequently transferred to Dr. Samuel Morton in Philadelphia for inclusion in his collection of human crania from around the world. The human remains are those of a single male individual estimated to be 60+ years old and are represented by a cranium. The condition of the remains suggests they were not buried. No known individuals were identified. No associated funerary objects are present.

At this time, the Academy of Natural Sciences of Philadelphia provided storage space for much of Dr. Morton's collections, including these human remains, until his death in 1851. In 1853, Dr. Morton's collection, including all of the remains described above, were purchased from Dr. Morton's Estate and formally presented to the Academy of Natural Sciences. In 1966, Dr. Morton's collection was loaned to the University of Pennsylvania Museum of Archaeology and Anthropology. In 1997, the collection was formally gifted to the University of Pennsylvania Museum of Archaeology and Anthropology.

Museum documentation, collector records and anthropological literature indicate that the two sets of human remains date to the Historic Period. The human remains have been identified as Native American based on the specific cultural and geographic attributions in the museum records. Collector's records, museum documentation and published historical sources identify the human remains above as Potawatomi. Scholarly ethno-historic and anthropological publications and land cession records indicate that the geographic location is consistent with the known historical territory of the Potawatomi.

Determinations made by the {Museum or Federal Agency}

Officials of the University of Pennsylvania Museum of Archaeology and Anthropology have determined that:

• Pursuant to 25 U.S.C. 3001(9), the human remains described in this notice represent the physical remains of two individuals of Native American ancestry.

• Pursuant to 25 U.S.C. 3001(2), there is a relationship of shared group identity that can be reasonably traced between the Native American human remains and the Citizen Potawatomi Nation, Oklahoma; Forest County Potawatomi Community, Wisconsin; Hannahville Indian Community, Michigan; Match-e-be-nash-she-wish Band of Pottawatomi Indians of Michigan; Nottawaseppi Huron Band of the Potawatomi, Michigan (previously listed as the Huron Potawatomi, Inc.); Prairie Band of Potawatomi Nation (previously listed as Prairie Band of Potawatomi Nation, Kansas); Pokagon Band of Potawatomi Indians, Michigan and Indiana.

Additional Requestors and Disposition

Lineal descendants or representatives of any Indian tribe or Native Hawaiian organization not identified in this notice that wish to request transfer of control of these human remains {and associated funerary objects} should submit a written request with information in support of the request to Dr. Julian Siggers, University of Pennsylvania Museum of Archaeology and Anthropology, 3260 South Street, Philadelphia, PA 19104, telephone (215) 898-4050, by November 2, 2016. After that date, if no additional requestors have come forward, transfer of control of the human remains to the Citizen Potawatomi Nation, Oklahoma; Forest County Potawatomi Community, Wisconsin; Hannahville Indian Community, Michigan; Match-e-be-nash-she-wish Band of Pottawatomi Indians of Michigan; Nottawaseppi Huron Band of the Potawatomi, Michigan (previously listed as the Huron Potawatomi, Inc.); Prairie Band of Potawatomi Nation (previously listed as Prairie Band of Potawatomi Nation, Kansas; Pokagon Band of Potawatomi Indians, Michigan and Indiana may proceed.

The University of Pennsylvania Museum of Archaeology and Anthropology is responsible for notifying the Citizen Potawatomi Nation, Oklahoma; Forest County Potawatomi Community, Wisconsin; Prairie Band of Potawatomi Nation (previously listed as Prairie Band of Potawatomi Nation, Kansas); Pokagon Band of Potawatomi Indians, Michigan and Indiana; and the Michigan Anishinabek Cultural Preservation & Repatriation Alliance, a non-federally recognized entity, representing the following federally recognized tribes: Bay Mills Indian Community, Michigan; Grand Traverse Band of Ottawa and Chippewa Indians, Michigan; Hannahville Indian Community, Michigan; Keweenaw Bay Indian Community, Michigan; Lac Vieux Desert Band of Lake Superior Chippewa Indians of Michigan; Little River Band of Ottawa Indians, Michigan; Little Traverse Bay Bands of Odawa Indians, Michigan; Match-e-be-nash-she-wish Band of Pottawatomi Indians of Michigan; Nottawaseppi Huron Band of the Potawatomi, Michigan (previously listed as the Huron Potawatomi, Inc.); Saginaw Chippewa Indian Tribe of Michigan; and the Sault Ste. Marie Tribe of Chippewa Indians, Michigan that this notice has been published.

Dated: September 19, 2016.
Melanie O'Brien,
Manager, National NAGPRA Program.

[FR Doc. 2016-23803 Filed 9-30-16; 8:45 am]

BILLING CODE 4312-52-P